NUCLEAR REGULATORY COMMISSION

[Docket No. 50-213]

Connecticut Yankee Atomic Power Company, Haddam Neck Plant; Issuance of Director's Decision Under 10 CFR 2.206

Notice is hereby given that the Director, Office of Nuclear Reactor Regulation, has taken action with regard to a Petition for action under 10 CFR 2.206 received from Rosemary Bassilakis and Deborah Katz (Petitioners) of the Citizens Awareness Network, dated September 26, 2000, with regard to the operation of the Connecticut Yankee Atomic Power Company's (CYAPCO's or the licensee's) Haddam Neck Plant (Haddam Neck). The Petition was supplemented by the Petition Review Board's (PRB) October 10, 2000, transcript.

The Petition requested that the Nuclear Regulatory Commission (NRC or the Commission) (1) Conduct a full investigation of CYAPCO's garment laundering practices and specifically of the September 20, 2000, incident at a public laundry facility in which the Petitioners contend that the licensee may have laundered radioactively contaminated clothing; (2) revoke CYAPCO's license, or suspend it until an investigation is completed and any contamination found as a result of that investigation is remediated; (3) report any violation of regulations to the Department of Justice; and (4) conduct an informal public hearing.

As the basis for the September 26, 2000, request, the Petitioners raised concerns stemming from a September 20, 2000, incident in which CYAPCO laundered bright yellow coveralls, rubber boots, and gloves at a public laundromat in East Hampton, Connecticut. The Petition contends that, although it is not clear whether or not the garments were radioactively contaminated, “Laundering the Haddam Neck reactor's protective garments at a public facility constitutes a serious loss of radiological control, and blatant disregard for public and worker health and safety, the environment, and NRC rules and regulations.”

The Petitioners addressed the Petition Review Board (PRB) on October 10, 2000, in a telephone conference call to clarify the basis for the Petition. The transcript of this discussion may be examined, and/or copied for a fee at the NRC Public Document Room, located at One White Flint North, 11555 Rockville Pike (first floor), Rockville, Maryland. The transcript (ADAMS Accession No.: ML003768237) is also available at the ADAMS Public Library component of the NRC's Web site, http://www.nrc.gov (the Public Electronic Reading Room).

The NRC sent a copy of the proposed Director's Decision to the Petitioners and to the licensee for comment by letter dated December 19, 2000. The Petitioners responded with comments on January 4, 2001, and the licensee responded on January 5, 2001. These comments and the NRC staff's response to them are Enclosures to the Director's Decision.

Of the four actions requested by the Petitioner, the Director of the Office of Nuclear Reactor Regulation has granted one action (an investigation of the licensee's laundering practices and this incident), granted in principle one action (an informal public hearing), denied one action (suspend or revoke the operating license), and one action (report any violations of regulations to the Department of Justice) became moot because no violations were identified. The reasons for this decision are explained in the Director's Decision pursuant to 10 CFR 2.206 (DD-01-02), the complete text of which is available in ADAMS for inspection at the Commission's Public Document Room, located at One White Flint North, 11555 Rockville Pike (first floor), Rockville, Maryland, and from the ADAMS Public Library component on the NRC's Web site, http://www.nrc.gov (the Public Electronic Reading Room).

The issues raised in the September 26, 2000, Petition have been resolved. Inspection efforts conducted by NRC in response to the Petition determined that protective clothing at the licensee's training facility was free from radioactive contamination. Furthermore, the NRC inspection report concluded that effective controls were in place to assure that training garments had not and would not become contaminated.

A copy of the Director's Decision will be filed with the Secretary of the Commission for the Commission's review in accordance with 10 CFR 2.206 of the Commission's regulations. As provided for by this regulation, the Director's Decision will constitute the final action of the Commission 25 days after the date of issuance, unless the Commission, on its own motion, institutes a review of the Director's Decision in that time.

Dated at Rockville, Maryland, this 20th day of March, 20, 2001.
For The Nuclear Regulatory Commission.
Samuel J. Collins,
Director, Office of Nuclear Reactor Regulation.

[FR Doc. 01-7351 Filed 3-23-01; 8:45 am]

BILLING CODE 7590-01-P